FEDERAL COMMUNICATIONS COMMISSION

[Report No. 2531]

Petitions for Reconsideration of Action in Rulemaking Proceedings

February 20, 2002.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by March 13, 2002. See section 1.4(b)(1) of the Commission's rules (47 CFR 1.4(b)(1)). Replies to an opposition must be filed within 10 days after the time for filing oppositions has expired.

Subject: In the Matter of Review of the Commission's Rules and Policies Affecting the Conversion to Digital Television (MM Docket No. 00-39).

Number of Petitions Filed: 1.

Subject: Amendment of FM Table of Allotments (MM Docket No. 00-53, RM-9823).

Number of Petitions Filed: 2.

William F. Caton,
Acting Secretary.

[FR Doc. 02-4474 Filed 2-25-02; 8:45 am]

BILLING CODE 6712-01-M